DEPARTMENT OF COMMERCE

National Telecommunications and Information Administration

Proposed Information Collection; Comment Request; Broadband Technology Opportunities Program Post-Award Quarterly and Annual Performance Progress Reports

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 15, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instruments and instructions should be directed to Anthony Wilhelm, Deputy Associate Administrator, Infrastructure Division, Office of Telecommunications and Information Applications, National Telecommunications and Information Administration, via the Internet at btop@ntia.doc.gov or by telephone at (202) 482-2048.

SUPPLEMENTARY INFORMATION:

I. Abstract

The American Recovery and Reinvestment Act of 2009 (Recovery Act) establishes and provides $4.7 billion for the Broadband Technology Opportunities Program (BTOP) and directs that these funds be awarded by September 30, 2010. Of these funds, at least $200 million will be made available for competitive grants to expand public computer center capacity; at least $250 million will be made available for competitive grants for innovative programs to encourage sustainable adoption of broadband service; and up to $350 million will be made available to fund the State Broadband Data and Development Grant Program (Broadband Mapping Program) authorized by the Broadband Data Improvement Act. The Broadband Mapping Program is designed to support the development and maintenance of a nationwide broadband map for use by policymakers and consumers.

The Office of Management and Budget requires agencies administrating grant programs to implement post-award financial and performance reporting for those programs. The Department of Commerce Uniform Administrative Requirements for Grants authorizes NTIA to require performance reports from BTOP grant recipients.

A general description of the performance reporting requirements for recipients of BTOP grants was included in the Notice of Funds Availability (NOFA) published on July 9, 2009 for the first round of funding and in the NOFA published on January 26, 2010, for the second round of funding.

The quarterly performance reports, submitted at the end of each quarter of the year, ask a series of questions that broadly address project progress and monitoring needs of program personnel by getting baseline (planned) and actual information on quarterly and cumulative project and milestone progress, and potential project barriers, if any.

The annual performance reports, submitted at the end of each Federal fiscal year, ask a series of questions that broadly address BTOP programmatic objectives and outcomes, NOFA requirements, and the information needs of external audiences, such as OMB. This includes information on:

• Broadband Infrastructure and CCI—Subscribers passed and served, improved vs. new access for subscribers, pricing plans and broadband speeds available to subscribers, and community anchor institutions served.

• PCC—Hours of operation, speed of broadband service, average number of users per week, training provided, equipment deployed, workstations available.

• SBA—Awareness campaigns, training provided, equipment deployed, broadband subscription rates.

II. Method of Collection

NTIA will collect the information from BTOP grant recipients through post-award quarterly and annual performance progress reports.

III. Data

OMB Control Number: 0660-0037.

Title: Broadband Technology Opportunities Program Post-Award Quarterly and Annual Performance Progress Reporting Requirements.

Form Number(s): None.

Type of Review: Regular submission (extension of a currently approved information collection).

Affected Public: Business and other for-profit organizations; not-for-profit institutions; and State, local, and Tribal government organizations.

Burden

Infrastructure and Comprehensive Community Infrastructure Reports (Annually)

Number of Respondents: 150.

Estimated Number of Responses per Respondent: 5.

Estimated Number of Responses: 750.

Average Burden Hours per Response: 4.66.

Estimated Total Annual Burden Hours: 3,498.

Public Computer Center Reports (Annually)

Number of Respondents: 75.

Estimated Number of Responses per Respondent: 5.

Estimated Number of Responses: 375.

Average Burden Hours per Response: 4.07.

Estimated Total Annual Burden Hours: 1,527.

Sustainable Broadband Adoption Application Reports (Annually)

Number of Respondents: 75.

Estimated Number of Responses per Respondent: 5.

Estimated Number of Responses: 375.

Average Burden Hours per Response: 3.76.

Estimated Total Annual Burden Hours: 1,411.5.

Need and Uses: NTIA needs to collect performance progress information specific to Infrastructure and Comprehensive Community Infrastructure (CCI), Public Computer Center (PCC), and Sustainable Broadband Adoption (SBA) grant recipients in order to effectively monitor, manage and evaluate individual projects and the overall success of the program in achieving statutory goals and objectives.

IV. Request for Comments

Comments are invited on: (a) Whether the collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this proposed revision of a currently approved collection of information. They will also become a matter of public record.

Dated: September 9, 2010.
Gwellnar Banks,
Management Analyst, Office of the Chief Information Officer.

[FR Doc. 2010-22913 Filed 9-14-10; 8:45 am]

BILLING CODE 3510-60-P